ENVIRONMENTAL PROTECTION AGENCY

[FRL -7259-1]

Notice of Outer Continental Shelf Final Determination for McCovey Prospect

AGENCY: Environmental Protection Agency (“EPA”).

ACTION: Notice of Final Action.

SUMMARY: EPA Region 10 is hereby providing notice that it issued an Outer Continental Shelf (OCS) permit to EnCana Oil & Gas (USA) Inc. The permit (Authority to Construct) was issued on May 29, 2002, and became effective July 4, 2002.

EnCana proposes to conduct exploratory oil and gas drilling in the OCS near-shore waters of the Beaufort Sea at the McCovey Prospect exploration site, north-northeast of the Midway Islands, in the vicinity of Prudhoe Bay, Alaska. EnCana proposes to utilize a mobile offshore drilling unit consisting of a converted crude tanker with topside drilling facilities that sits on top of an all steel submersible barge. Exploratory drilling will be conducted from November 2002 through March 2003, and / or, from November 2003 through March 2004.

The proposed facility is subject to the State of Alaska requirements applicable to OCS sources. See 40 CFR part 55, Appendix A. The facility has proposed and accepted operating restrictions to avoid PSD review. No New Source Performance Standards (40 CFR part 60) or National Emissions Standards for Hazardous Air Pollutants (40 CFR parts 61 and 63) apply to emission units at the facility.

40 CFR 55.6(a)(3) requires EPA to follow the procedures in 40 CFR part 124 used to issue PSD permits. In accordance with those procedures, comments were received during the public comment period. EPA Region 10 responded to comments, and certain proposed permit conditions were changed in the final permit. EnCana received the final permit on June 3, 2002. A copy of the final permit was concurrently provided to commentors. Review of the final permit by the Environmental Appeals Board was not requested within 30 days of EnCana's receipt of the final permit, pursuant to 40 CFR 124.19, and thus the final permit became effective July 4, 2002.

40 CFR 124.19(f)(2) requires notice of any final agency action regarding a PSD (OCS) permit to be published in the Federal Register Review. This notice satisfies that requirement.

FOR FURTHER INFORMATION CONTACT: If you have any questions or would like a copy of the permit, please contact Dan Meyer at (206) 553-4150. You may also contact Mr. Meyer by mail at: Office of Air Quality (OAQ-107), U.S. Environmental Protection Agency, Region 10, 1200 Sixth Avenue, Seattle, WA 98101.

Dated: August 6, 2002.
L. John Iani,
Regional Administrator, Region 10.

[FR Doc. 02-20582 Filed 8-13-02; 8:45 am]

BILLING CODE 6560-50-P